DEPARTMENT OF TRANSPORTATION

Pipeline and Hazardous Materials Safety Administration

[Docket No. PHMSA-2014-0002; PDA-36(R)]

Hazardous Materials: Pittsburgh, Pennsylvania Permit Requirements for Transportation of Hazardous Material

AGENCY: Pipeline and Hazardous Materials Safety Administration (PHMSA), DOT.

ACTION: Notice Dismissing Application and Closing the Docket.

SUMMARY: The application for a determination of preemption is dismissed, and this docket is closed, because the City of Pittsburgh, Pennsylvania's permit and permit fee requirements are not being applied or enforced.

FOR FURTHER INFORMATION CONTACT: Vincent Lopez, Office of Chief Counsel (PHC-10), Pipeline and Hazardous Materials Safety Administration, U.S. Department of Transportation, 1200 New Jersey Avenue SE., Washington, DC 20590; telephone No. 202-366-4400; facsimile No. 202-366-7041.

SUPPLEMENTARY INFORMATION: The American Trucking Associations, Inc. (ATA) applied for an administrative determination concerning whether Federal hazardous material transportation law, 49 U.S.C. 5101 et seq., preempts requirements of the City of Pittsburgh, Pennsylvania (City) for a permit to transport hazardous materials by motor vehicle and the fee to obtain the permit. On April 7, 2014, PHMSA published a public notice and invitation to comment on ATA's application. 79 FR 21840. On June 2, 2014, the comment period closed without any parties submitting comments. On April 27, 2015, PHMSA published a notice of delay in processing ATA's application in order to conduct additional fact-finding and legal analysis in response to the application. 80 FR 23328. On July 6, 2015, PHMSA sent a letter to the City's Solicitor, and its Fire Chief, to encourage the city to participate in the proceeding. On July 20, 2015, the City responded to PHMSA's letter and informed the agency that the “City of Pittsburgh at this time is not accepting applications for the `Transportation of Hazardous Materials' permit and has not done so since 2013.” The City further stated that “[n]o fees were collected for 2014 or 2015. For 2013, the City of Pittsburgh collected a total of $8,316.00 which was deposited into the City of Pittsburgh's General Fund.” Thereafter, in a letter, dated March 11, 2016, the City's Solicitor confirmed to PHMSA that the City had stopped enforcing its permit and fee requirements to transport hazardous materials in 2013, and further stated that it had no intention of taking it up again.

In light of this information, ATA's application is hereby dismissed, and the docket is closed. In the future, if the City of Pittsburgh, Pennsylvania's permit and permit fee requirements are ever applied and enforced, ATA may again submit an application for a preemption determination.

Applicable Federal Requirements: Federal hazardous material transportation law, 49 U.S.C. 5101 et seq., and the Hazardous Materials Regulations (HMR), 49 CFR parts 171-180.

Mode Affected: Highway.

Issued in Washington, DC, on July 6, 2016.
Joseph Solomey,
Senior Assistant Chief Counsel.

[FR Doc. 2016-16386 Filed 7-11-16; 8:45 am]

BILLING CODE 4910-60-P